DEPARTMENT OF THE TREASURY

Internal Revenue Service

26 CFR Part 1

[TD 8924]

RIN 1545-AY63

Liabilities Assumed in Certain Corporate Transactions; Correction

AGENCY: Internal Revenue Service (IRS), Treasury.

ACTION: Correction to temporary and final regulations.

SUMMARY: This document contains a correction to temporary and final regulations that were published in the Federal Register on January 4, 2001 (66 FR 723). This document relates to the assumption of liabilities in certain corporate transactions under section 301 of the Internal Revenue Code.

DATES: This correction is effective January 4, 2001.

FOR FURTHER INFORMATION CONTACT: Mary Dean (202) 622-7550 (not a toll-free number).

SUPPLEMENTARY INFORMATION:

Background

The temporary and final regulations that are the subject of this correction are under section 301 of the Internal Revenue Code.

Need for Correction

As published, these temporary and final regulations (TD 8924) contain an error that may prove to be misleading and is in need of clarification.

Correction of Publication

Accordingly, the publication of the temporary and final regulations (TD 8924), which were the subject of FR Doc. 01-200, is corrected as follows:

On page 723, column 3, in the preamble under the paragraph heading “A. State of the Law Before the Miscellaneous Trade and Technical Corrections Act of 1999”, line 6, the language “distribution shall be reduced (but now” is corrected to read “distribution shall be reduced (but not”.

Cynthia E. Grigsby,
Chief, Regulations Unit, Office of Special Counsel (Modernization and Strategic Planning).

[FR Doc. 01-3775 Filed 2-13-01; 8:45 am]

BILLING CODE 4830-01-P